DEPARTMENT OF COMMERCE

National Telecommunications and Information Administration

Announcement of Members for the Performance Review Board

AGENCY: National Telecommunications and Information Administration, Department of Commerce.

ACTION: Notice.

SUMMARY: Announcement of Members for the Performance Review Board.

FOR FURTHER INFORMATION CONTACT: Tony Calza, Department of Commerce, NTIA, Room 4888, Washington, DC 20230.

SUPPLEMENTARY INFORMATION: This notice announces the appointment by the Assistant Secretary for Communications and Information, Nancy J. Victory, of the members of the Performance Review Board for the National Telecommunications and Information Administration. The purpose of the Performance Review Board is to review and make recommendations to the appointing authority on performance management issues such as appraisals, bonuses, pay rate level increases and Presidential Rank Awards for members of Senior Executive Service.

The following individuals are eligible to serve on the Performance Review Board in accordance with the Senior Executive Service Performance Appraisal System of the National Telecommunications and Information Administration.

Bernadette McGuire-Rivera

Kelly K. Levy

Neal B. Seitz

Frederick R. Wentland

Ronald P. Hack

Dated: October 1, 2001.
Vicki G. Brooks,
Executive Secretary, National Telecommunications and Information Administration Performance Review Board.

[FR Doc. 01-25032 Filed 10-04-01; 8:45 am]

BILLING CODE 3510-60-M